DEPARTMENT OF AGRICULTURE

Rural Housing Service

7 CFR Part 3550

RIN 0575-AC88

Single Family Housing Direct Loan Program

AGENCY: Rural Housing Service, USDA.

ACTION: Final rule; delay of effective date.

SUMMARY: On April 29, 2015, the Rural Housing Service (RHS) published a final rule to create a certified loan application packaging process for the direct single family housing loan program. On June 5, 2015, the final rule's effective date was deferred to October 1, 2015. The final rule's effective date is further delayed until October 1, 2016.

DATES: Effective Date: The effective date of the final rule published April 29, 2015 (80 FR 23673), effective July 28, 2015, and delayed on June 5, 2015 (80 FR 31971), is further delayed until October 1, 2016. RHS will publish in the Federal Register another document changing the effective date if and when appropriations mandates impacting Fiscal Year 2016 do not reference the packaging pilot program.

FOR FURTHER INFORMATION CONTACT: Brooke Baumann, Branch Chief, Single Family Housing Direct Loan Division, USDA Rural Development, Stop 0783, 1400 Independence Avenue SW., Washington, DC 20250-0783, Telephone: 202-690-4250. Email: brooke.baumann@wdc.usda.gov.

SUPPLEMENTARY INFORMATION: Section 729 of the Consolidated and Further Continuing Appropriations Act, 2015 (Act) (Pub. L. 113-235) provides that the Agency will continue agreements with the current intermediaries in the pilot program and enter into additional agreements that increase the number of pilot intermediaries to at least 10. This appropriations mandate, which applies to the packaging pilot program in Fiscal Year 2015, prompted the Agency to defer the effective date of the final rule from July 28, 2015, to October 1, 2015, to allow the existing intermediaries under the pilot sufficient time to process loan application packages in their queue and to prepare for the implementation of the final rule.

Since Section 729 will remain in effect during any continuing resolution passed to continue program operations in Fiscal Year 2016 and given that similar mandatory language regarding the packaging pilot program is currently found in the Fiscal Year 2016 appropriations bills passed by the House and the Senate, the final rule to create a certified loan application packaging process will be deferred again. In an abundance of caution, the Agency takes this action to avoid the possibility of duplicative and inconsistent policies for this important certified loan application packaging process.

In the interim, existing pilot intermediaries will be contacted directly concerning extensions of their agreements. In addition, applications received from potential intermediaries under the final rule, which were due by July 9, 2015, will now be considered for inclusion in any Fiscal Year 2016 packaging pilot program.

Dated: August 31, 2015.
Tony Hernandez,
Administrator, Rural Housing Service.

[FR Doc. 2015-22785 Filed 9-10-15; 8:45 am]

BILLING CODE 3410-XV-P